DEPARTMENT OF TRANSPORTATION

Federal Aviation Administration

Solicitation of Nominations for Appointment to the Women in Aviation Advisory Board

AGENCY: Federal Aviation Administration (FAA), U.S. Department of Transportation (DOT).

ACTION: Solicitation of Nominations for Appointment to the Women in Aviation Advisory Board.

SUMMARY: The FAA is issuing this notice to solicit nominations for qualified candidates to serve on the Women in Aviation Advisory Board (the Board). The objective of the Board is to provide independent advice and recommendations to the FAA. Section 612, Supporting Women's Involvement in the Aviation Field, of the FAA Reauthorization Act of 2018, requires the FAA Administrator establish and facilitate a Women in Aviation Advisory Board to encourage women and girls to enter the field of aviation with the objective of promoting organizations and programs that are providing education, training, mentorship, outreach, and recruitment of women into the aviation industry.

DATES: Nomination package materials (see below) must be received no later than October 29, 2019 to be considered for the initial committee appointment. Nomination packages received after that date will be retained for consideration to fill future committee vacancies.

ADDRESSES: All nominations shall be emailed to Angela Anderson, the Designated Federal Officer, at s612womenadvisoryboard@faa.gov (subject line “2019 Women in Aviation Advisory Board Nomination”). A return email confirmation will be sent upon receipt.

FOR FURTHER INFORMATION CONTACT: For questions about this process or general questions about the Board, please contact Angela Anderson at s612womenadvisoryboard@faa.gov.

SUPPLEMENTARY INFORMATION:

Description of Duties: The Board acts solely in an advisory capacity and does not exercise program management responsibilities. Any decisions directly affecting implementation of policy will remain with the FAA Administrator and the Secretary of Transportation.

The Board shall present a comprehensive plan for strategies the FAA Administrator can take, which include the following objectives:

a. Identifying industry trends that directly or indirectly encourage or discourage women from pursuing careers in aviation.

b. Coordinating the efforts of airline companies, nonprofit organizations, and aviation and engineering associations to facilitate support for women pursuing careers in aviation.

c. Creating opportunities to expand existing scholarship opportunities for women in the aviation industry.

d. Enhancing aviation training, mentorship, education, and outreach programs that are exclusive to women.

No later than 2 years after the date of the enactment of the Reauthorization Act of 2018, the Board shall submit a report outlining the comprehensive plan for strategies to the Administrator and the appropriate committees of Congress.

Membership: The membership will be fairly balanced in terms of points of view represented and the functions performed. The stakeholder groups to be represented on the Board will include:

a. Major airlines and aerospace companies.

b. Nonprofit organizations within the aviation industry.

c. Aviation business associations.

d. Engineering business associations.

e. United States Air Force Auxiliary, Civil Air Patrol.

f. Institutions of higher education and aviation trade schools.

All Board members serve at the pleasure of the Secretary of Transportation. Other membership criteria include:

a. Members shall be appointed for the duration of the existence of the Board.

b. Members will serve without government compensation or reimbursement.

c. Representative members must represent a particular interest in employment, education, experience, or affiliation with a specific aviation-related organization.

d. Members must attend at least three-quarters of all Board meetings (estimated two meetings annually).

Qualifications: Representative member candidates must be in good public standing and currently serve as a member of their organization's core senior leadership team. In some circumstances, membership will be granted to uniquely qualified individuals who do not meet this latter requirement.

Materials to Submit: Candidates are required to submit, in full, the following materials to be considered for Board membership. Failure to submit the required information may disqualify a candidate from the review process.

a. A short biography of the nominee, including professional and academic credentials.

b. A résumé or curriculum vitae, which must include relevant job experience, qualifications, as well as contact information.

c. Up to three letters of recommendation may be submitted, but are not required. Each letter may be no longer than one page.

d. A one-page statement describing how the candidate will benefit the Board, taking into account the candidate's unique perspective that will advance the conversation. This statement must also identify a primary and secondary stakeholder group to which the candidate's expertise best aligns. Finally, candidates should state their previous experience on a Federal Advisory Committee, their level of knowledge in the above stakeholder groups, and the size of the constituency they represent or are able to reach.

Evaluations will be based on the materials submitted by the prospective candidates and will include consideration for membership balancing to ensure each of the above stakeholder groups has adequate representation.

Issued in Washington, DC, on September 30, 2019.
Angela Anderson,
Senior Advisor, Office of the Assistant Administrator for Human Resource Management, Federal Aviation Administration.

[FR Doc. 2019-21962 Filed 10-7-19; 8:45 am]

BILLING CODE P